DEPARTMENT OF HOMELAND SECURITY

Federal Emergency Management Agency

[Docket ID: FEMA-2010-0065]

Public Meetings of National Flood Insurance Program (NFIP) Reform Effort

AGENCY: Federal Emergency Management Agency, DHS.

ACTION: Announcement of public meetings.

SUMMARY: This notice announces two public meetings of the National Flood Insurance Program (NFIP) Reform Effort. In performing its mission, the Federal Emergency Management Agency (FEMA) believes it is important to continually update stakeholders on its programs and answer any questions and listen to comments from them on how its programs can be more efficient and effective at meeting the needs of the public. To this end, FEMA has engaged in a comprehensive reform effort to address the concerns of the wide array of stakeholders involved in the ongoing debate about the NFIP. FEMA chose a participatory policy analysis framework to guide the NFIP Reform effort. Policy analysis employs systematic inquiry and evaluation to assess policy alternatives. The participatory policy analysis process allows public decisions to be made in a structured, defensible, and collaborative manner.

The effort is comprised of three phases designed to engage the greatest number of stakeholders and consider the largest breadth of public policy options. Phase I focused on the capture and analysis of stakeholder concerns and recommendations. During Phase II, FEMA performed additional analysis of existing data and identified a set of evaluation criteria. In Phase III, a portfolio of public policy alternatives is being developed and will be analyzed using the evaluation criteria. The resulting recommendations will be reported to FEMA leadership. The purpose of the public meetings is to describe, update, and explain straw man policy alternatives and to answer questions and listen to comments from interested stakeholders. Additional information on the straw man policy alternatives will be made available prior to the meeting via the NFIP Reform Web site and will be posted to Docket ID: FEMA-2010-0065.

In addition, through these public meetings, FEMA will accept stakeholder input of the policy evaluation process through the use of a pair-wise comparison method. The pair-wise tool is also available via the NFIP Reform Web site at http://www.fema.gov/business/nfip/nfip_reform.shtm.

DATES:

Meeting Date: The first public meeting will be held on December 2, 2010, from 10 a.m. to 5 p.m. EST. This meeting will be held in Washington, DC. The second public meeting will be held on December 9, 2010, from 10 a.m. to 5 p.m. MST. This meeting will be held in Denver, CO.

Comment Date: Written comments must be received by December 31, 2010.

ADDRESSES: All written comments must be received by Friday, December 31, 2010. All submissions received must include the Docket ID: FEMA-2010-0065 and may be submitted by any one of the following methods:

Federal Rulemaking Portal: http://www.regulations.gov. Follow the instructions for submitting comments on the Web site.

E-mail: FEMA-RULES@dhs.gov. Include Docket ID: FEMA-2010-0065 in the subject line of the message.

Facsimile: (703) 483-2999.

Mail: FEMA, Office of Chief Counsel, 500 C Street, SW., Room 840, Washington, DC 20472-3100.

Hand Delivery/Courier: FEMA, Office of Chief Counsel, 500 C Street, SW., Room 840, Washington, DC 20472-3100.

Instructions: All submissions received must include the Docket ID: FEMA-2010-0065. Comments received will also be posted without alteration at http://www.regulations.gov, including any personal information provided. You may want to read the Privacy Act Notice located on the Privacy and Use Notice link on the Administration Navigation Bar of the Web site http://www.regulations.gov.

Docket: For access to the docket to read documents or comments received by FEMA, go to http://www.regulations.gov. The straw man policy alternatives will be posted to Docket ID: FEMA-2010-0065.

Special Accommodations: For anyone attending the meeting who is hearing or visually impaired, or who requires special assistance or accommodations, please contact Jason “Tommy” Kennedy by November, 15, 2010 for the first meeting and by November 22, 2010 for the second meeting. For further information, please contact Mr. Kennedy by telephone at 202-646-3779.

Meeting Locations: The first public meeting will be held in Washington, DC, at the Washington Marriott at Metro Center, 775 12th Street, NW., Washington, DC. The second public meeting will be held in Denver, Colorado at the Denver Federal Center, Building 810—Entrance W-5, Denver, CO.

Meeting Accessibility: Due to space constraints of the facilities, seating will be limited to 200 participants. To reserve a seat in advance, please provide a request via email or mail with the contact information of the participant (including name, mailing address, and e-mail address), the meeting(s) to be attended, and include the subject/attention line (or on the envelope if by mail): Reservation Request for NFIP Reform Meeting. Advance reservations must be received 3 business days prior to the meeting to ensure processing. Unregistered participants will be accepted after all participants with reservations have been accommodated and will be admitted on a first-come, first-serve basis, provided the 200 person capacity is not exceeded. To submit reservations, please e-mail: nfip_reform@dhs.gov or send by mail to the address listed in the FOR FURTHER INFORMATION CONTACT caption.

Web Site: http://www.fema.gov/business/nfip/nfip_reform.shtm.

FOR FURTHER INFORMATION CONTACT: Michael Grimm, by telephone at 202-646-2878 or by e-mail at nfip_reform@dhs.gov. Mailing Address: NFIP Reform, 1800 South Bell Street, Room 970, Arlington, VA 20598-3030.

Meeting Topics: Background information about these topics is available on the NFIP Reform Web site. The straw man policy alternatives will also be posted to Docket ID: FEMA-2010-0065.

Procedure: This meeting is open to the public.

W. Craig Fugate,
Administrator, Federal Emergency Management Agency.

[FR Doc. 2010-28424 Filed 11-9-10; 8:45 am]

BILLING CODE 9110-12-P